DEPARTMENT OF HOMELAND SECURITY

Coast Guard

33 CFR Part 165

[Docket Number USCG-2024-0343]

RIN 1625-AA00

Safety Zone; Lower Mississippi River, Natchez, MS

AGENCY: Coast Guard, DHS.

ACTION: Temporary final rule; correction.

SUMMARY: The Coast Guard published a temporary final rule in the Federal Register on May 30, 2024, establishing a temporary safety zone for navigable waters on the Lower Mississippi River from mile marker 364.5 to mile marker 365.5 on June 15, 2024. That rule contained an incorrect regulation identifier number (RIN). This document corrects that RIN.

DATES: This correction is effective May 16, 2024.

FOR FURTHER INFORMATION CONTACT: For information about this document call or email Marine Science Technician First Class Peter Buczakowski, U.S. Coast Guard; telephone 206-820-5297, email Peter.L.Buczakowski@uscg.mil.

SUPPLEMENTARY INFORMATION:

Correction

In the Federal Register of May 30, 2024, in FR Doc. 2024-09266, on page 89 FR 34128, in the third column, in the headings, the regulation identifier number, “RIN 1625-AA11”, is corrected to read: “RIN 1625-AA00”. This corrects our listing of an incorrect RIN for the Safety Zone; Lower Mississippi River, Natchez, MS temporary final rule published May 30, 2024.

Dated: May 13, 2024.
Michael T. Cunningham,
Office Chief, Office of Regulations and Administrative Law.

[FR Doc. 2024-10783 Filed 5-15-24; 8:45 am]

BILLING CODE 9110-04-P